DEPARTMENT OF HEALTH AND HUMAN SERVICES

National Institutes of Health

National Institute of Mental Health Notice of Meeting

Pursuant to section 10(a) of the Federal Advisory Committee Act, as amended (5 U.S.C. App.), notice is hereby given of a meeting of the Interagency Autism Coordinating Committee (IACC) Subcommittee for Services Research and Policy.

The IACC Subcommittee for Services Research and Policy will be having a conference call on Wednesday, September 19, 2012. The Subcommittee will discuss plans for developing a 2012 IACC Strategic Plan Progress Update that will describe recent progress that has been made in the autism field as well as remaining gap areas in research. The meeting will be open to the public and accessible by webinar and conference call.

Name of Committee: Interagency Autism Coordinating Committee (IACC).

Type of meeting: Subcommittee for Services Research and Policy.

Date: September 19, 2012.

Time: 10:00 a.m. to 2:00 p.m. Eastern Time.

Agenda: The Subcommittee will discuss plans for developing a 2012 IACC Strategic Plan Progress Update that will describe recent progress that has been made in the autism field and identify remaining gap areas in research.

Webinar: https://www2.gotomeeting.com/register/427830826.

Conference Call: Dial: 800-369-3130, Access code: 1524980.

Cost: The conference call and webinar is free.

Contact Person: Ms. Lina Perez, Office of Autism Research Coordination, National Institute of Mental Health, NIH, 6001 Executive Boulevard, NSC, Room 6182A, Rockville, MD 20852, Phone: 301-443-6040, Email: IACCPublicInquiries@mail.nih.gov.

Please Note: The meeting will be accessible via a webinar and conference call. Members of the public who participate using the conference call phone number will be able to listen to the meeting but will not be heard. If you experience any technical problems with the conference call, please email IACCTechSupport@acclaroresearch.com or call the IACC Technical Support Help Line at 443-680-0098.

If you experience any technical problems with the Web presentation tool, please contact GoToWebinar at (800) 263-6317. To access the Web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Individuals who participate by using this electronic service and who need special assistance such as captioning or other reasonable accommodations should submit a request to the Contact Person listed on this notice at least 5 days prior to the meeting.

Schedule is subject to change.

Information about the IACC and a registration link for this meeting are available on the Web site: www.iacc.hhs.gov.

Dated: August 23, 2012.
Carolyn A. Baum,
Program Analyst, Office of Federal Advisory Committee Policy.

[FR Doc. 2012-21249 Filed 8-28-12; 8:45 am]

BILLING CODE 4140-01-P